DEPARTMENT OF EDUCATION

Electronic Grant Initiatives

AGENCY: Office of the Chief Financial Officer, Department of Education.

ACTION: Notice announcing the development and implementation of a system to administer grants via the Internet.

SUMMARY: The Chief Financial Officer announces the U.S. Department of Education Electronic Grant Initiatives (e-Grants) and requests comments on the effectiveness of this system. We intend to use your comments to assist us in improving our services and helping potential applicants and grantees to benefit from electronic commerce (e-commerce).

ADDRESSES: Address all comments and suggestions regarding e-Grants to Rebecca Harding-Spitzgo, U.S. Department of Education, 400 Maryland Avenue, SW., room 4E310, Washington, DC 20202-4300. If you prefer to send your comments through the Internet, use the following address: edcapsuser@ed.gov.

FOR FURTHER INFORMATION CONTACT: Blanca Rosa Rodriguez, Director, Grants Policy and Oversight Staff, U.S. Department of Education, 400 Maryland Avenue, SW., room 3652, ROB-3, Washington, DC 20202-4248. Telephone: (202) 260-0172; fax: (202) 205-0667; or via Internet: Blanca_Rodriguez@ed.gov or Rebecca Harding-Spitzgo, Project Manager (GAPS), U.S. Department of Education, 400 Maryland Avenue, SW., room 4E310, Washington, DC 20202-4300. Telephone: (202) 205-0707; fax: (202) 205-0729; or via Internet: Rebecca—Harding@ed.gov.

If you use a telecommunications device for the deaf (TDD), you may call the Federal Information Relay Service (FIRS) at 1-800-877-8339.

Individuals with disabilities may obtain this document in an alternative format (e.g., Braille, large print, audiotape, or computer diskette) on request to either contact person listed under FOR FURTHER INFORMATION CONTACT.

SUPPLEMENTARY INFORMATION:

New Initiatives in Electronic Grant-Making at the U.S. Department of Education

The Government Paperwork Elimination Act (GPEA) of 1998, (Pub. L. 105-277) and the Federal Financial Assistance Management Improvement Act of 1999, (Pub. L. 106-107) encourage us to undertake initiatives to improve our grant process. Enhancing the ability of individuals and entities to conduct business with us electronically is a major part of our response to these Acts. E-commerce—for example, conducting transactions via Internet—is playing a vital role in achieving our mission. This notice presents an overview of the Department's present and proposed activities.

We are taking steps to adopt the Internet as our chief means of conducting transactions in order to improve services to our customers and to simplify and expedite our business processes.

We are also working with other Federal departments and agencies to develop the Federal Commons, which will be a shared location on the Internet for information about Federal financial assistance. The goal of this initiative is to create a single point of entry on the Internet to make it easier for prospective applicants to locate information about, and apply for, grants under all Federal programs. In the future, applicants who access the Federal Commons can search for available funding opportunities throughout the Federal Government, complete standard application forms, and submit grant applications online. You may obtain more information about the Federal Commons at: http://www.fedcommons.gov.

Accomplishments to Date

During fiscal year (FY) 2000, under our Grant Administration and Payment System (GAPS), we conducted a pilot project using an Internet-based software program for submitting applications. The project involved eight grant competitions. Applicants had the opportunity to submit their grant applications to us online through the e-Application Web site.

A survey after the pilot project indicated that participants were positive about their experiences using e-Application. In fact, 90 percent of the participating applicants found our system easy to use, and most said that they would use the system in future competitions. To help applicants get used to applying for grants electronically, we have established a demonstration and training area on the e-Grants Web site.

We have also developed e-Reports, a new electronic enhancement to GAPS. Using e-Reports grantees will be able to submit their annual grant performance reports to us via the Internet. The system will also notify each grantee of the deadline for its annual grant performance report. Additional features of the system will include applicant registration, e-mail confirmations, and printing capabilities.

In addition, we are developing e-Reader, another electronic enhancement to GAPS, to support the review of grant applications. With e-Reader, an ED discretionary grant program can use the Internet to transmit applications electronically to reviewers at various locations, enable reviewers to evaluate and score applications on a Web-based form; and collect the reviewers' scores and comments. One of the many benefits of e-Reader is that it will give program officials a cost-effective way to facilitate and monitor the application review process from their offices in the Washington, DC area.

ED's Plans for the Future

For FY 2001 we plan to—

• Provide applicants the option of submitting their applications electronically in up to 50 percent of our new grant competitions, including several formula programs;

• Increase the number of ED programs using e-Reports, allowing grantees in these programs to submit their annual grant performance reports electronically; and

• Complete the development of e-Reader and apply it in eight to ten grant competitions that use the electronic grant application review process.

Beyond FY 2001 we plan to expand and promote the use of electronic procedures for the submission and review of applications and the filing of reports under all of our grant programs. Our goal over time is to encourage applicants and grantees to make e-commerce their preferred method of doing business. We will do this by communication and outreach efforts to the public.

We plan to do the following to make applicants and grantees aware of our Electronic Grant Initiatives and familiar with our electronic business process:

• Continue to host public workshops on our electronic grant initiatives at various national conferences and meetings of project directors;

• Make the system more convenient for users by increasing the hours it is available;

• Provide ongoing support to applicants who need assistance using the system;

• Inform the public about changes and improvements to our Electronic Grant Initiatives; and

• Work toward further integration of our electronic applications system with the Governmentwide system known as the Federal Commons.

Information concerning the availability of e-Application will be contained in specific program announcements and application packages, grant forecasts, and specific areas of our Web site. In addition, program offices will make grantees aware of electronic reporting options as they become available.

Please be aware that electronic application and reporting will be voluntary. Paper-based application and reporting options will still be available to applicants and grantees who do not have the capability to do business electronically. We will give every application, whether paper or electronic, the same consideration in the review process.

Invitation To Comment

We are determined to help make the transition to e-commerce as smooth as possible for our customers. As we develop e-commerce capabilities, we ask you for your support and welcome your suggestions regarding our plans for electronic grantmaking. We invite you, as potential applicants and grantees, to use the electronic methods described and to provide feedback about your experiences. We also invite you to comment now on the plans outlined in this notice. Please send your comments to the address in the ADDRESSES section of this notice.

To obtain additional information about e-GRANTS or to participate in e-GRANTS pilot projects, see the portal page at: http://e-grants.ed.gov.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the previous sites. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Dated: February 27, 2001.
Mark Carney,
Deputy Chief Financial Officer.

[FR Doc. 01-5253 Filed 3-2-01; 8:45 am]

BILLING CODE 4000-01-P